DEPARTMENT OF LABOR

Employment and Training Administration

[TA-W-54,895]

Armin Tool & Manufacturing Co., a Division of Armin Industries, South Elgin, Illinois; Notice of Termination of Investigation

Pursuant to section 221 of the Trade Act of 1974, as amended, an investigation was initiated on May 12, 2004, in response to a worker petition filed by a company official on behalf of workers at Armin Tool & Manufacturing Co., a division of Armin Industries, South Elgin, Illinois.

The petitioner has requested that the petition be withdrawn. Consequently, the investigation has been terminated.

Signed in Washington, DC this 27th day of May, 2004.
Richard Church,
Certifying Officer, Division of Trade Adjustment Assistance.

[FR Doc. 04-13373 Filed 6-14-04; 8:45 am]

BILLING CODE 4510-30-P